DEPARTMENT OF ENERGY

Federal Energy Regulatory Commission

[Docket No. EL08-60-000]

Union Electric Company, Complainant, v. Entergy Arkansas, Inc. and Entergy Services, Inc., Respondents; Notice of Complaint

May 1, 2008.

Take notice that on April 30, 2008, Union Electric Company (d/b/a/ AmerenUE ) filed a complaint pursuant to sections 206 and 309 of the Federal Power Act, 16 U.S.C. 824e and 825h, and section 385.206 of the Commission's regulations issued thereunder, against Entergy Arkansas, Inc. (EAI) and Entergy Services, Inc. (collective, Respondents). In the Complaint AmerenUE ultimately seeks an order from the Commission compelling Respondents to adhere to the rates, terms and conditions of an existing, Commission-approved long-term service agreement between EAI and AmerenUE, cease charging AmerenUE a charge in violation of that agreement and in violation of the filed rate doctrine, and provide AmerenUE with refunds, including interest calculated pursuant to 18 CFR 35.19a, for all overcollections.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 20, 2008.

Kimberly D. Bose,
Secretary.

[FR Doc. E8-10196 Filed 5-7-08; 8:45 am]

BILLING CODE 6717-01-P